DEPARTMENT OF ENERGY

Federal Energy Regulatory Commission

[Docket No. RP11-1435-000]

Columbia Gulf Transmission Company; Notice of Technical Conference

December 15, 2010.

On October 28, 2010, Columbia Gulf Transmission Company (Columbia Gulf) filed a request under section 4 of the Natural Gas Act (NGA) to implement a general rate increase. Columbia Gulf submitted two sets of proposed tariff records with alternative rate structures for consideration by the Commission: actual tariff rates as its Primary Case and pro forma tariff rates as its Preferred Case. On November 30, 2010, the Commission issued an order that, among other things, directed the Staff to convene a technical conference to explore the non-rate issues raised by the filing.

Take notice that a technical conference to discuss non-rate issues raised by Columbia Gulf's filing will be held on Tuesday, January 18, 2011 at 10 a.m. (EST) and Wednesday, January 19, 2011 at 10 a.m. (EST), in a room to be designated at the offices of the Federal Energy Regulatory Commission, 888 First Street, NE., Washington, DC 20426.

Federal Energy Regulatory Commission conferences are accessible under section 508 of the Rehabilitation Act of 1973. For accessibility accommodations please send an e-mail to accessibility@ferc.gov or call toll free 1-866-208-3372 (voice) or 202-208-1659 (TTY), or send a FAX to 202-208-2106 with the required accommodations.

All parties and staff are permitted to attend. For further information please contact Sebrina M. Greene at (202) 502-6309 or sebrina.greene@ferc.gov.

Kimberly D. Bose,
Secretary.

[FR Doc. 2010-32073 Filed 12-21-10; 8:45 am]

BILLING CODE 6717-01-P